DEPARTMENT OF AGRICULTURE

Forest Service

Flathead County Resource Advisory Committee

AGENCY: Forest Service, USDA.

ACTION: Notice of meeting.

SUMMARY: The Flathead County Resource Advisory Committee (RAC) will meet in Kalispell, Montana on February 15. The purpose of this meeting is to discuss the meeting schedule for this year, develop project criteria, select new Chair and determine participation in the upcoming RAC meeting in Reno.

DATES: The meeting will be held from 4 p.m. to 6 p.m.

ADDRESSES: The meeting will be held at the Flathead County Commissioner's Office, Commissioner's Conference Room, 800 South Main, Kalispell, Montana 59901.

FOR FURTHER INFORMATION CONTACT: Kaaren Arnoux, Flathead National Forest, Administrative Assistant, (406) 758-5251.

SUPPLEMENTARY INFORMATION: The meeting is open to the public.

Denise Germann,
Public Affairs Specialist.
Cathy Barbouletos,
Forest Supervisor.

[FR Doc. 05-893 Filed 1-14-05; 8:45 am]

BILLING CODE 3410-11-M